FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 8, 2005.

A. Federal Reserve Bank of Kansas City (Donna J. Ward, Assistant Vice President) 925 Grand Avenue, Kansas City, Missouri 64198-0001:

1. Kenneth D. Klehm, Edmond, Oklahoma; and G. Blake Hogan, Houston, Texas, as trustees for the William M. Cameron 2004 Family Trusts; to retain voting shares of First Fidelity Bancorp, Inc., and thereby indirectly retain voting shares of First Fidelity Bank, National Association, Oklahoma City, Oklahoma.

2. Robert E. Mickey, Jr., Holden, Missouri, individually and as trustee of the Marilyn Mickey Clay 2005 Irrevocable Trust; to acquire voting shares of F&C Bancorp, Inc., and thereby indirectly acquire voting shares of Farmers and Commercial Bank, Holden, Missouri.

B. Federal Reserve Bank of Dallas (W. Arthur Tribble, Vice President) 2200 North Pearl Street, Dallas, Texas 75201-2272:

1. Rodney A. Abrams, Northbrook, Illinois, the Abrams Family Trust, Stephanie H. Denby, trustee, Buffalo Grove, Illinois; Funeral Financial Services, Ltd., Northfield, Illinois; Mortuary Financial Services, Inc., Richardson, Texas; Richard N. Abrams, Fort Worth Texas; Karen Abrams Fox, Northbrook, Illinois; Jodie Abrams Engfer, North Oaks, Minnesota; and Beverly Adams, Highland Park, Illinois; to acquire voting shares of Surety Capital Corporation, Fort Worth, Texas, and thereby indirectly acquire voting shares of Surety Bank, National Association, Fort Worth, Texas.

Board of Governors of the Federal Reserve System, March 21, 2005.
Robert deV. Frierson,
Deputy Secretary of the Board.

[FR Doc. 05-5899 Filed 3-24-05; 8:45 am]

BILLING CODE 6210-01-S